DEPARTMENT OF TRANSPORTATION

Federal Aviation Administration

14 CFR Part 39

[Docket No. FAA-2025-1117; Project Identifier MCAI-2025-00845-R; Amendment 39-23072; AD 2025-13-06]

RIN 2120-AA64

Airworthiness Directives; Airbus Helicopters Deutschland GmbH Helicopters

AGENCY: Federal Aviation Administration (FAA), DOT.

ACTION: Final rule; request for comments.

SUMMARY: The FAA is adopting a new airworthiness directive (AD) for certain Airbus Helicopters Deutschland GmbH Model EC135P1, EC135P2, EC135P2+, EC135P3, EC135T1, EC135T2, EC135T2+, EC135T3, and EC635T2+ helicopters. This AD was prompted by a report of a loss of the tail rotor controls due to a broken control rod of the yaw actuator. This AD requires visual inspection of the ball pivot, fluorescent penetrant inspection of the control rod, visual inspection and measurement of certain parts of the yaw actuator assembly, and depending on the results of these inspections, corrective actions. This AD also prohibits installing an affected part unless it is a serviceable part and certain requirements are met. The FAA is issuing this AD to address the unsafe condition on these products.

DATES: This AD is effective July 18, 2025.

The Director of the Federal Register approved the incorporation by reference of a certain publication listed in this AD as of July 18, 2025.

The FAA must receive comments on this AD by August 18, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1117; or in person at Docket Operations between 9 a.m. and 5 p.m., Monday through Friday, except Federal holidays. The AD docket contains this final rule, the mandatory continuing airworthiness information (MCAI), any comments received, and other information. The street address for Docket Operations is listed above.

Material Incorporated by Reference:

• For European Union Aviation Safety Agency (EASA) material identified in this AD, contact EASA, Konrad-Adenauer-Ufer 3, 50668 Cologne, Germany; phone +49 221 8999 000; email: ADs@easa.europa.eu; website: easa.europa.eu. You may find the EASA material on the EASA website at ad.easa.europa.eu. It is also available at regulations.gov under Docket No. FAA-2025-1117.

• You may view this material at the FAA, Office of the Regional Counsel, Southwest Region, 10101 Hillwood Parkway, Room 6N-321, Fort Worth, TX 76177. For information on the availability of this material at the FAA, call (817) 222-5110.

FOR FURTHER INFORMATION CONTACT: Steven Warwick, Aviation Safety Engineer, FAA, 1600 Stewart Avenue, Suite 410, Westbury, NY; phone: (817) 222-5225; email: steven.r.warwick@faa.gov.

SUPPLEMENTARY INFORMATION:

Comments Invited

The FAA invites you to send any written data, views, or arguments about this final rule. Send your comments using a method listed under the ADDRESSES section. Include “Docket No. FAA-2025-1117; Project Identifier MCAI-2025-00845-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Steven Warwick, Aviation Safety Engineer, FAA, 1600 Stewart Avenue, Suite 410, Westbury, NY. Any commentary that the FAA receives which is not specifically designated as CBI will be placed in the public docket for this rulemaking.

Background

EASA, which is the Technical Agent for the Member States of the European Union, has issued EASA AD 2025-0108, dated May 8, 2025 (EASA AD 2025-0108) (also referred to as the MCAI) to correct an unsafe condition on Airbus Helicopters Deutschland GmbH Model EC135 P1, EC135 P2, EC135 P2+, EC135 P3, EC135 T1, EC135 T2, EC135 T2+, EC135 T3, EC635 P2+, EC635 P3, EC635 T1, EC635 T2+, and EC635 T3 helicopters.

The MCAI states an occurrence was reported where the pilot lost the tail rotor controls after hearing a noise from the rear of the helicopter, and further investigation identified a broken control rod of the yaw actuator. The MCAI also states the investigation to identify the root cause of the event is ongoing, and Airbus Helicopters Deutschland GmbH is collecting fleet data to support the investigation. According to the MCAI, the unsafe condition, if not addressed, could lead to loss of control of the helicopter.

You may examine the MCAI in the AD docket at regulations.gov under Docket No. FAA-2025-1117.

Material Incorporated by Reference Under 1 CFR Part 51

The FAA reviewed EASA AD 2025-0108, which specifies procedures for visual inspection of ball pivot part-number (P/N) 92-201-00 and P/N 92-207-00; and yaw actuator assembly P/N L672M2005104, P/N L672M2005105, and P/N L672M2005106; and fluorescent penetrant inspection of control rod P/N L672M2006101 and P/N L672M2006102 and, depending on the inspection results, corrective actions to include the replacement of affected parts. EASA AD 2025-0108 also specifies procedures for measuring several dimensions and reporting the measurement results. Additionally, EASA AD 2025-0108 requires reporting the inspection results (including no findings) to AHD [Airbus Helicopters Deutschland]. EASA AD 2025-0108 prohibits installing certain parts on any helicopter unless certain requirements are met. EASA considers its AD an interim action and further action may follow.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this AD after determining that the unsafe condition described previously is likely to exist or develop on other products of the same type design.

AD Requirements

This AD requires accomplishing the actions specified in EASA AD 2025-0108, described previously, as incorporated by reference, except for any differences identified as exceptions in the regulatory text of this AD. See “Differences Between this AD and the MCAI” for a discussion of the general differences included in this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2025-0108 is incorporated by reference in this AD. This AD requires compliance with EASA AD 2025-0108 in its entirety through that incorporation, except for any differences identified as exceptions in the regulatory text of this AD. Using common terms that are the same as the heading of a particular section in EASA AD 2025-0108 does not mean that operators need comply only with that section. For example, where the AD requirement refers to “all required actions and compliance times,” compliance with this AD requirement is not limited to the section titled “Required Action(s) and Compliance Time(s)” in EASA AD 2025-0108. Material required by EASA AD 2025-0108 for compliance will be available at regulations.gov under Docket No. FAA-2025-1117 after this AD is published.

Differences Between This AD and the Referenced Material

The MCAI applies to Model EC635 P2+, EC635 P3, EC635 T1, and EC635 T3 helicopters, whereas this AD does not because those models do not have an FAA type certificate.

Interim Action

The FAA considers that this AD is an interim action. If final action is later identified, the FAA might consider further rulemaking.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because tail rotor controls are critical components to maintaining controlled flight. Damage to the ball bearing control system could result in loss of tail rotor controls and consequent loss of control of the helicopter. The FAA has no information pertaining to the root cause, the extent of the root cause that may currently exist in helicopters, or how quickly the root cause may propagate to failure. Additionally, the compliance time in this AD for the required actions is within 50 hours time-in-service or 90 days, whichever occurs first, which is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 318 helicopters of U.S. registry.

The FAA estimates the following costs to comply with this AD:

Estimated Costs
Action | Labor cost | Parts cost | Cost per product | Cost on U.S. operators
Inspect ball pivot and control rod | 2 work-hours × $85 per hour = $170 | $0 | $170 | $54,060
Perform fluorescent penetrant inspection | 2 work-hours × $85 per hour = $170 | 0 | 170 | 54,060
Inspect and measure yaw actuator interface connections | 2 work-hours × $85 per hour = $170 | 0 | 170 | 54,060
Report inspection results | 1 work-hour × $85 per hour = $85 | 0 | 85 | 27,030

The FAA estimates the following costs to do any necessary replacements that would be required based on the results of the inspection. The agency has no way of determining the number of helicopters that might need these replacements:

On-Condition Costs
Action | Labor cost | Parts cost | Cost per product
Replace adapter | 1 work-hour × $85 per hour = $85 | $803 | $888
Replace ball pivot | 1 work-hour × $85 per hour = $85 | 2,846 | 2,931
Replace close tolerance bolt | 1 work-hour × $85 per hour = $85 | 42 | 127
Replace connector cover | 1 work-hour × $85 per hour = $85 | 571 | 656
Replace control rod | 1 work-hour × $85 per hour = $85 | 6,835 | 6,920
Replace input lever | 2 work-hours × $85 per hour = $170 | 9,755 | 9,925
Replace rod end | 1 work-hour × $85 per hour = $85 | 643 | 728

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-13-06 Airbus Helicopters Deutschland GmbH: Amendment 39-23072; Docket No. FAA-2025-1117; Project Identifier MCAI-2025-00845-R.

(a) Effective Date

This airworthiness directive (AD) is effective July 18, 2025.

(b) Affected ADs

None.

(c) Applicability

This AD applies to Airbus Helicopters Deutschland GmbH Model EC135P1, EC135P2, EC135P2+, EC135P3, EC135T1, EC135T2, EC135T2+, EC135T3, and EC635T2+ helicopters, serial numbers 0001 through 1999 inclusive, certificated in any category.

Note 1 to paragraph (c): Helicopters with an EC135P3H designation are Model EC135P3 helicopters, and helicopters with an EC135T3H designation are Model EC135T3 helicopters.

(d) Subject

Joint Aircraft System Component (JASC) Code 6720, Tail Rotor Control System.

(e) Unsafe Condition

This AD was prompted by a report of a loss of tail rotor controls due to a broken control rod of the yaw actuator. The root cause of this damage is unknown, and investigation is ongoing. The FAA is issuing this AD to detect and address damage to the ball bearing control system. The unsafe condition, if not addressed, could result in loss of tail rotor controls and consequent loss of control of the helicopter.

(f) Compliance

Comply with this AD within the compliance times specified, unless already done.

(g) Requirements

Except as specified in paragraph (h) of this AD: Comply with all required actions and compliance times specified in, and in accordance with, European Union Aviation Safety Agency AD 2025-0108, dated May 8, 2025 (EASA AD 2025-0108).

(h) Exceptions to EASA AD 2025-0108

(1) Where EASA AD 2025-0108 requires compliance in terms of flight hours, this AD requires using hours time-in-service.

(2) Where EASA AD 2025-0108 refers to its effective date, this AD requires using the effective date of this AD.

(3) Where paragraph (2) of EASA AD 2025-0108 specifies “any discrepancy, as defined in the ASB”, this AD requires replacing that text with “any wear or damage.”

(4) Where the material referenced in EASA AD 2025-0108 specifies to examine the close-tolerance bolt, the input lever, the rod end, the adapter, and the connector cover for wear and damage, for the purposes of this AD damage is defined as specified in paragraphs (h)(4)(i) through (iv) of this AD, as applicable.

(i) Damage for the close-tolerance bolt is defined as deformed or stripped, rounded head; bent, stripped, or missing threads; bent shank; grooves in the shank, corrosion or rust; and gouges.

(ii) Damage for the input lever is defined as deformation or elongated attachment hole; bent flange; gouges; corrosion; and cracks.

(iii) Damage for the rod end is defined as corrosion, gouges, bending, and seizing.

(iv) Damage for the adapter or connector is defined as deformation, elongated attachment holes, gouges, cracks, corrosion, and missing surface coating on the adapter or connector.

(5) Where the material referenced in EASA AD 2025-0108 specifies if the ball pivot shows rough stiffness, hard stops, corrosion, or damage, for the purposes of this AD damage is defined as deformation (bent flanges), gouges, areas of bare metal, or missing finish.

(6) Where paragraph (4) of EASA AD 2025-0108 specifies to report inspection results to Airbus Helicopters Deutschland within certain compliance times, for this AD, report inspection results at the applicable times specified in paragraphs (h)(6)(i) or (ii) of this AD.

(i) For an inspection done on or after the effective date of this AD: Submit the report within 15 days after the inspection.

(ii) For an inspection done before the effective date of this AD: Submit the report within 15 days after the effective date of this AD.

(7) Where the material referenced in EASA AD 2025-0108 specifies actions for non-installed equipment or parts, this AD does not require those actions.

(8) Where the material referenced in EASA AD 2025-0108 specifies to replace an affected part, this AD requires removing an affected part from service and replacing it with a serviceable part.

(9) This AD does not adopt the Remarks section of EASA AD 2025-0108.

(i) No Returning Parts Requirement

Although the material referenced in EASA AD 2025-0108 specifies to return parts to the manufacturer, this AD does not require that action.

(j) Special Flight Permits

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov.

(2) Before using any approved AMOC, notify your appropriate principal inspector, or lacking a principal inspector, the manager of the local Flight Standards District Office/certificate holding district office.

(l) Additional information

For more information about this AD, contact Steven Warwick, Aviation Safety Engineer, FAA, 1600 Stewart Avenue, Suite 410, Westbury, NY; phone: (817) 222-5225; email: steven.r.warwick@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0108, dated May 8, 2025.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on June 18, 2025.
Steven W. Thompson,
Acting Deputy Director, Compliance & Airworthiness Division, Aircraft Certification Service.

[FR Doc. 2025-12388 Filed 6-30-25; 4:15 pm]

BILLING CODE 4910-13-P